DEPARTMENT OF ENERGY

Federal Energy Regulatory Commission

[Docket No. RP01-317-001]

Reliant Energy Gas Transmission Company; Notice of Compliance Filing

May 17, 2001.

Take notice that on May 14, 2001, Reliant Energy Gas Transmission Company (REGT) tendered for filing as part of its FERC Gas Tariff, Fifth Revised Volume No. 1, the following tariff sheet to be effective May 1, 2001:

Substitute Second Revised Sheet No. 253

REGT states that the purpose of this filing is to comply with the Commission's order issued April 27, 2001 in Docket No. RP01-317-000.

Any person desiring to protest said filing should file a protest with the Federal Energy Regulatory Commission, 888 First Street, N.E., Washington, D.C. 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-12956 Filed 5-22-01; 8:45 am]

BILLING CODE 6717-01-M